DEPARTMENT OF ENERGY

[GDO Docket No. EA-516]

Application for Authorization To Export Electric Energy; Energia Sierra Juarez U.S., LLC

AGENCY: Grid Deployment Office, Department of Energy.

ACTION: Notice of application.

SUMMARY: Energia Sierra Juarez U.S., LLC (ESJ US or Applicant) has applied for authorization to transmit electric energy from the United States to Mexico pursuant to the Federal Power Act.

DATES: Comments, protests, or motions to intervene must be submitted on or before October 28, 2024.

ADDRESSES: Comments, protests, motions to intervene, or requests for more information should be addressed by electronic mail to Electricity.Exports@hq.doe.gov.

FOR FURTHER INFORMATION CONTACT: Janessa Zucchetto, 240-474-8226 Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On August 16, 2024, ESJ US filed an application (Application or App.) with DOE for authorization to transmit electric energy from the United States to Mexico. App. at 1. According to the Application, ESJ US is a power marketer and a Delaware limited liability company authorized to operate in California. Id. at 1, 6. Further, the Applicant states its corporate parent, Energia Sierra, S. de R.L. de C.V., is a “wholly-owned subsidiar[y] of Sempra Infrastructure Partners, LP, which in turn is indirectly majority owned and controlled by Sempra, a publicly traded utility holding company based in San Diego, California.” Id. at 1-2. ESJ US states it “will sell energy, capacity and/or ancillary services into the [California Independent Service Operator (CAISO)] balancing authority area [.]” Id.

The Applicant represents that their exports would “not impair the sufficiency of electric supply, nor would it impede or tend to impede regional coordination of electric utility planning or operation.” Id. at 7. ESJ US further states that the electric power it “plans to export will be surplus energy obtained in wholesale markets, and any such export transactions will be completed using CAISO's procedures and/or market structures, . . . applicable market rules implemented by the CAISO, and reliability standards implemented by the [North American Electric Reliability Corporation] and the [Western Electric Reliability Council].” Id. 8-9. The Applicant asserts that its export transactions therefore “will not adversely impact native load customers or other market participants, and will not compromise transmission security or reliability.” Id. at 9.

The existing international transmission facility to be utilized by the Applicant has been previously authorized by a Presidential permit issued pursuant to Executive Order 10485, as amended, and is appropriate for open access transmission by third parties. See App. at 10.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning ESJ US's Application should be clearly marked with GDO Docket No. EA-516. Additional copies are to be provided directly to Jerrod L. Harrison, Sempra Infrastructure, 488 8th Avenue, HQ12, San Diego, CA 92101, jharrison@sempraglobal.com, and Katy Wilson, Sempra Infrastructure, 488 8th Avenue, San Diego, CA 92101, kwilson@sempraglobal.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on September 20, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 24, 2024.
Treena V. Garrett,
Federal Register Liaison Officer, U.S. Department of Energy.

[FR Doc. 2024-22174 Filed 9-26-24; 8:45 am]

BILLING CODE 6450-01-P